DEPARTMENT OF HOMELAND SECURITY

Coast Guard

33 CFR Part 117

[Docket No. USCG-2022-0222]

RIN 1625-AA09

Drawbridge Operation Regulation; Okeechobee Waterway, Stuart, FL

AGENCY: Coast Guard, DHS.

ACTION: Final rule.

SUMMARY: The Coast Guard is changing the operating schedule that governs the Florida East Coast (FEC) Railroad Bridge, across the Okeechobee Waterway (OWW), mile 7.41, at Stuart, FL. This rule will allow the drawbridge to operate on a more predictable and reliable schedule to meet the needs of competing modes of transportation. This action is necessary due to a significant increase in railway activity.

DATES: This rule is effective November 17, 2025.

ADDRESSES: To view documents mentioned in this preamble as being available in the docket, go to https://www.regulations.gov. Type the docket number (USCG-2022-0222) in the “SEARCH” box and click “SEARCH”. In the Document Type column, select “Supporting & Related Material.”

FOR FURTHER INFORMATION CONTACT: If you have questions on this rule, call or email call or email Ms. Jennifer Zercher, Bridge Management Specialist, Coast Guard Southeast District; telephone 571-607-5951, email Jennifer.N.Zercher@uscg.mil.

SUPPLEMENTARY INFORMATION:

I. Table of Abbreviations

CFR Code of Federal Regulations

DHS Department of Homeland Security

FR Federal Register

OMB Office of Management and Budget

NPRM Notice of Proposed Rulemaking

§ Section

U.S.C. United States Code

TD Temporary Deviation

OWW Okeechobee Waterway

FL Florida

TIR Temporary Interim Rule

NOI Notice of Inquiry

SNOI Supplemental Notice of Inquiry

FECR Florida East Coast Railway

FEC Florida East Coast

II. Background Information and Regulatory History

On May 3, 2022, the Coast Guard published a Notification of Inquiry (NOI); request for comments in the Federal Register (87 FR 26145). This NOI sought information from waterway users in response to provided questions. Those questions focused on waterway usage and navigation in the vicinity of the railroad and highway bridges. On June 10, 2022, a Supplemental Notification of Inquiry (SNOI); request for comments was published in the Federal Register (87 FR 35472). The SNOI provided clarification on the Coast Guard's intent in gathering information. The Coast Guard was seeking information regarding usage and equitable access to the waterway. We received a total of 2358 comments on those publications. Those comments were taken into consideration when developing the temporary test deviation published on June 8, 2023.

On June 8, 2023, the Coast Guard published a notice titled “Temporary deviation from regulations; request for comments” in the Federal Register (88 FR 37470) (Temporary Deviation 1). The deviation was effective from 12:01 a.m. on June 21, 2023, through 11:59 p.m. on December 17, 2023. Under Temporary Deviation 1, the railroad bridge opened twice an hour upon request and was required to remain in the open position if trains were not crossing the bridge. Additional operating requirements were specified by the Coast Guard. The comment period ended on August 4, 2023, with 371 comments received. Those comments were taken into consideration when developing Temporary Deviation 2, which was published on August 11, 2023.

On August 11, 2023, the Coast Guard published a notice titled “Temporary deviation from regulations; cancellation” in the Federal Register (88 FR 54488). This action cancelled Temporary Deviation 1, as it was determined FEC Railway (FECR) was experiencing extreme difficulty meeting the requirements of the temporary deviation.

On August 11, 2023, the Coast Guard also published a notice titled “Temporary deviation from regulations; request for comments” in the Federal Register (88 FR 54487) (Temporary Deviation 2). The deviation was effective from 12:01 a.m. on August 15, 2023, through 11:59 p.m. on December 17, 2023. Under Temporary Deviation 2, the railroad bridge was maintained in the fully open-to-navigation position, except during periods when it closed for the passage of train traffic. Additional operating requirements were specified by the Coast Guard, one of which was a fixed 15-minute opening period each hour. The comment period ended October 15, 2023, with 211 comments received. Those comments were addressed in Temporary Deviation 3, which was published on February 6, 2024.

On November 7, 2023, the Coast Guard published a notice titled “Temporary deviation from regulations; reopening the comment period” in the Federal Register (88 FR 76666). This action was necessary due to a delay in the start of passenger rail service. Due to the delay, the public was not afforded adequate opportunity to provide comments on Temporary Deviation 2 during actual passenger rail service operations. The comment period ended November 30, 2023, with 4 comments received. Those comments were addressed in Temporary Deviation 3, which was published on February 6, 2024.

On December 7, 2023, the Coast Guard published a notice titled “Temporary deviation from regulations; modification” in the Federal Register (88 FR 85111). The deviation was effective from 12:01 a.m. on December 18, 2023, through 11:59 p.m. on February 11, 2024. This action extended Temporary Deviation 2 to allow for the review of public comments, while providing continuity in the operation of the drawbridge. An additional comment period was not provided for the extension of Temporary Deviation 2 since multiple comment periods had already been provided.

On February 6, 2024, the Coast Guard published a notice titled “Temporary deviation from regulations; request for comments” in the Federal Register (89 FR 8074) (Temporary Deviation 3). The deviation was effective from 12:01 a.m. on February 12, 2024, through 11:59 p.m. on August 9, 2024. Under Temporary Deviation 3, the railroad bridge was maintained in the fully open-to-navigation position, except during periods when it closed for the passage of train traffic. Additional operating requirements were specified by the Coast Guard, one of which was a fixed 10-minute opening period each hour. The comment period ended May 6, 2024, with one comment received. That comment is addressed in the NPRM, which was published on March 25, 2025 (90 FR 13573).

On August 7, 2024, the Coast Guard published a Temporary Interim Rule (TIR) with request for comments in the Federal Register (89 FR 64367). The temporary interim rule was effective from August 9, 2024, through 11:59 p.m. on December 31, 2024. This action was necessary to allow for continuity of drawbridge operations while the Coast Guard reviewed comments, and the Coast Guard Commissioned Marine Traffic Study of the Okeechobee Waterway (St. Lucie) (study) associated with the temporary test deviation. The comment period for the TIR ended September 23, 2024, with one comment received. That comment is addressed in the NPRM, which was published on March 25, 2025 (90 FR 13573).

On February 7, 2025, the Coast Guard published a TIR with request for comments in the Federal Register (90 FR 9126). The temporary interim rule was effective from February 7, 2025, through 11:59 p.m. on May 31, 2025. This action allowed for continuity for drawbridge operations while the Coast Guard evaluates documentation received for a request to permanently change the operating regulation. The comment period for the TIR ended March 10, 2025, with 22 comments received, and those comments are addressed in Section IV of this Final Rule.

On March 25, 2025, the Coast Guard published a NPRM entitled “Drawbridge Operation Regulation; Okeechobee Waterway, Stuart, FL” in the Federal Register (90 FR 13573). There we stated why we issued the NPRM and invited comments on our proposed regulatory change. During the comment period that ended April 24, 2025, we received two comments, and those comments are addressed in Section IV of this Final Rule.

On May 19, 2025, the Coast Guard published a TIR in the Federal Register (90 FR 21223). The temporary interim rule is effective from June 1, 2025, through 11:59 p.m. on September 30, 2025. This action allowed for continuity for drawbridge operations while the Coast Guard evaluates documentation received for a request to permanently change the operating regulation.

III. Legal Authority and Need for Rule

The Coast Guard is issuing this rule under authority 33 U.S.C. 499.

The Florida East Coast (FEC) Railroad Bridge across the Okeechobee Waterway (OWW), mile 7.41, at Stuart, FL, is a single-leaf bascule bridge with a six-foot vertical clearance at mean high water in the closed position. The normal operating schedule for the bridge is found in 33 CFR 117.317(c).

Railway activity has significantly increased across the FEC Railroad Bridge. The Coast Guard is changing the operating regulation for the railroad bridge to allow the drawbridge to operate a more predictable and reliable schedule to meet the needs of competing modes of transportation.

IV. Discussion of Comments, Changes and the Final Rule

The Coast Guard received 22 comments from the TIR published February 7, 2025. Fifteen comments were neither in support of nor against the proposed rule but instead made statements regarding the railroad's perceived failure to adhere to the specific requirements of the proposed rule. Comments stated the bridge is not maintained in the open to navigation position when trains are not crossing and does not open immediately after trains pass. This section of the FEC train corridor is a single track which requires the bridge to remain in the down position when trains approach the bridge or are in the track circuit or “block”. When trains occupy the block for the railroad bridge, they may not be visible from the waterway, and it may appear the bridge is remaining down needlessly. Per federal railway regulations, the block is a safety signal system leading up to the bridge that requires the bridge to remain down until the train moves outside of the block (safety signal) and prevents a train from entering a block already occupied by another train. Again, this bridge crossing is single track and it may take longer for trains to clear the block before another train is permitted to enter and cross the bridge. FEC has scheduled trains to cross the bridge close to each other to reduce the amount of time the bridge is closed to navigation.

Comments stated the mobile application is not reliable. The mobile application displays a daily schedule when the drawbridge is open and closed to navigation. Bridge tender logs indicate the drawbridge is operating similarly in conjunction with the mobile application. There are minor discrepancies when the drawbridge closes or remains closed when the mobile application indicates it is open to navigation and these incidents are attributed to complex railroad operations or incidents along the railroad corridor. However, there are instances when the drawbridge is open when the mobile application indicates it is in the down or closed position. FEC is complying with the fixed 10-minute opening period at the top of each hour from 6 a.m. to 8 p.m. FEC is required to update the mobile application in a timely manner when these incidents occur. The mobile application provides the mariner with reliable information while competing with other modes of transportation.

Comments stated the signage is insufficient and difficult to see. The signage is electronic on a digital board that provides more information than typical bridge signage and is similar in letter height. Mariners can also contact the bridge tender on marine radio channel 9. The Coast Guard does not have the authority to require a bridge owner to post specific requirements on any structure other than the actual bridge structure. We find that the signage is sufficient as it provides the required information.

Comments stated that reducing the total shared hours by two hours is not reasonable for navigation. The drawbridge is required to remain open when trains are not crossing, and it is not allowed to remain closed to navigation for more than 60 consecutive minutes from 8:01 p.m. until 5:59 a.m. daily. The Coast Guard determined that from 8:01 p.m. until 5:59 a.m. requiring the drawbridge to be locally manned with a fixed 10-minute opening at the top of the hour was not necessary as marine traffic was not robust.

One commenter provided several recommendations that are not reasonable for the area and outside the scope of Coast Guard Bridge Program authority. They stated the current schedule does not satisfy the needs of marine navigation, leading to economic losses for commercial vessels and local businesses. The commenter did not provide evidence that the proposed schedule, which has been active under the TIR for the past year and a half, has led to economic losses for the community. The commenter recommended a structured daily schedule, and the schedule should be easily accessible via online platform. The mobile application satisfies this recommendation. Additionally, the commenter recommended a priority reservation system for vessels should be implemented which would require the bridge to open based on vessels with pressing time constraints. This is unreasonable and unnecessary as the drawbridge is required to be maintained in the open position when trains are not crossing and a 10-minute opening at the top of the hour is provided, which mariners can plan for.

One comment stated the Coast Guard should allow marine traffic access under the bridge and that it is unfair for a private company to stop marine traffic for more than fifty percent of an hour. The proposed rule provides for reasonable access for competing modes of transportation that all users can plan for based on the final schedule.

A commercial property owner stated the excessive closure of the railroad bridge to marine traffic is detrimental to his tenants that use his property for their marine construction businesses and boat storage. There is no evidence provided by commenters that the proposed schedule, which has been active under the TIR for the past year and a half, has been detrimental to the marine industry nor is closed excessively. The bridge logs indicate, overall, the bridge owner is complying with the proposed rule. The commenter also stated during approaching hurricanes, mariners can't access their facility in a timely manner to avoid the storm. During Hurricane Season, multiple federal, state, and local agencies coordinate to ensure the public, including the boating public, are aware of storms. The information provided includes, but is not limited to, evacuation routes, roadway and bridge closures. The Coast Guard coordinates with bridge owners to ensure waterway access is available for mariners seeking safe haven and also provides the bridge owner with sufficient time to secure moveable bridges to prevent storm damage. Mariners are advised to follow emergency orders and plan early vessel movements to ensure they have access to waterways prior to the lockdown of moveable bridges due to approaching storms.

There were four comments outside the scope of the TIR that we determined were not actionable.

The Coast Guard received two comments on the NPRM published on March 25, 2025. The two comments were unrelated to the substance of the proposed rule.

This rule changes the operating schedule from the generic requirement of “open to navigation except when trains are crossing”, to defining specific operating requirements, one of which is a fixed 10-minute opening period each hour. The rule allows the drawbridge to operate on a more predictable and reliable schedule to meet the needs of competing modes of transportation due to the significant increase in railway activity.

This rule specifies that the drawbridge will not be closed for more than 50 consecutive minutes in any given hour during daytime operations (6 a.m. to 8 p.m.) and for more than 7 total hours during daytime operations (6 a.m. to 8 p.m.). The drawbridge will open and remain open to navigation for a fixed 10-minute period at the top of each hour from 6 a.m. to 8 p.m. At night from 8:01 p.m. until 5:59 a.m. daily, the drawbridge will remain in the fully open-to-navigation position, except during periods when it is closed for the passage of train traffic, to conduct inspections, and to perform maintenance and repairs authorized by the Coast Guard. The drawbridge will not be closed more than 60 consecutive minutes during this night and early morning time frame.

Lastly, if a train is in the track circuit at the start of a fixed opening period, the opening may be delayed up to, but not more than, five minutes. Once the train has cleared the circuit, the bridge must open immediately for navigation to begin the fixed opening period.

V. Regulatory Analyses

We developed this rule after considering numerous statutes and Executive Orders related to rulemaking. Below we summarize our analyses based on a number of these statutes and Executive Orders.

A. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities for the following reasons. The drawbridge must open at the top of the hour for 10 minutes during the day time which gives predictability and planning to small entities needing to transit the bridge. If a train is in the track circuit at the start of a fixed opening period, the opening may be delayed up to, but not more than, five minutes. Once the train has cleared the circuit, the bridge must open immediately for navigation to begin the fixed opening period. In addition, the drawbridge will not be closed for more than 50 consecutive minutes in any given hour during daytime operations (6 a.m. to 8 p.m.) and for more than 7 total hours during daytime operations (6 a.m. to 8 p.m.). This ensures the small businesses affected are not delayed for more than 50 minutes during day time hours if a train is passing. In the evenings and early mornings, from 8:01 p.m. until 5:59 a.m. daily, the drawbridge will remain in the fully open-to-navigation position, except during periods when it is closed for the passage of train traffic or other authorized actions by the Coast Guard. We tailored this schedule to reduce the effect on small entities, give predictability to all users, reduce unforeseen delays, and included contingency planning for when the railroad needs cause the drawbridge to remain closed during planned openings.

Under section 213(a) of the Small Business Regulatory Enforcement Fairness Act of 1996 (Pub. L. 104-121), we want to assist small entities in understanding this rule. If the rule affects your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

B. Collection of Information

This rule calls for no new collection of information under the Paperwork Reduction Act of 1995 (44 U.S.C. 3501-3520).

C. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

E. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Appendix A, Table 1 of DHS Instruction Manual 023-01-001-01, Rev. 1.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and Department of Homeland Security Delegation No. 00170.1. Revision No. 01.3.

2. Amend § 117.317 by revising paragraph (c) to read as follows.

§ 117.317 Okeechobee Waterway.

* * * * *

(c) Florida East Coast Railroad (FEC) Bridge, mile 7.41, at Stuart. The draw shall operate as follows:

(1) The drawbridge will be maintained in the fully open-to-navigation position, except during periods when it is closed for the passage of train traffic, to conduct inspections, and to perform maintenance and repairs authorized by the Coast Guard.

(2) The drawbridge will not be closed for more than 50 consecutive minutes in any given hour during daytime operations (6 a.m. to 8 p.m.) and for more than 7 total hours during daytime operations (6 a.m. to 8 p.m.).

(3) Notwithstanding paragraph (c)(1) of this section, the drawbridge will open and remain open to navigation for a fixed 10-minute period at the top of each hour from 6 a.m. to 8 p.m.

(4) From 8:01 p.m. until 5:59 a.m. daily, the drawbridge will remain in the fully open-to-navigation position, except during periods when it is closed for the passage of train traffic, to conduct inspections, and to perform maintenance and repairs authorized by the Coast Guard. The drawbridge will not be closed more than 60 consecutive minutes during this time frame.

(5) If a train is in the track circuit at the start of a fixed opening period, the opening may be delayed up to, but not more than, five minutes. Once the train has cleared the circuit, the bridge must open immediately for navigation to begin the fixed opening period.

(6) The drawbridge will be tended from 6 a.m. to 8 p.m., daily. The bridge tender will monitor VHF-FM channels 9 and 16 and will provide estimated times of drawbridge openings and closures, or any operational information requested. Operational information will be provided 24 hours a day by telephone at (305) 889-5576.

(7) The drawbridge owner will maintain a mobile application. The drawbridge owner will publish drawbridge opening times, and the drawbridge owner will provide timely updates to schedules, including but not limited to, impacts due to emergency circumstances, inspections, maintenance, and repairs authorized by the Coast Guard.

(8) Signs will be posted and visible to marine traffic, displaying VHF radio contact information, application information, and the telephone number for the bridge tender.

* * * * *

Dated: September 12, 2025.
Adam A. Chamie,
Rear Admiral, U.S. Coast Guard, Commander, Coast Guard Southeast District.

[FR Doc. 2025-17888 Filed 9-15-25; 8:45 am]

BILLING CODE 9110-04-P